DEPARTMENT OF AGRICULTURE

Agricultural Marketing Service

7 CFR Parts 1124 and 1131

[Docket No. AO-368-A32, AO-271-A37; DA-03-04]

Milk in the Pacific Northwest and Arizona-Las Vegas Marketing Areas; Reconvening of Hearing on Proposed Amendments to Tentative Marketing Agreements and Orders

7 CFR Part | Marketing area | AO Nos.
1124 | Pacific Northwest | AO-368-A32
1131 | Arizona-Las Vegas | AO-271-A37

AGENCY: Agricultural Marketing Service, USDA.

ACTION: Proposed rule; notice of reconvened public hearing on proposed rulemaking.

SUMMARY: This notice announces the reconvening of the hearing which began on September 23, 2003, in Tempe, Arizona, to consider proposals to amend the producer-handler provisions of the Arizona-Las Vegas and Pacific Northwest orders and to consider elimination of the ability to simultaneously pool the same milk on the Arizona-Las Vegas milk order and on a State-operated order that provides for marketwide pooling. The proposals seek to, among other things, end the regulatory exemption of producer-handlers from the pooling and pricing provisions of these two milk marketing orders if their Class I route distribution exceeds three million pounds of milk per month in either order.

DATES: The hearing will reconvene at 8:30 a.m. on Monday, November 17, 2003.

ADDRESSES: The reconvened hearing will be held at the Doubletree Hotel, Seattle Airport, 18740 Pacific Highway S., Seattle, Washington 98188, telephone: (206) 246-8600.

FOR FURTHER INFORMATION CONTACT: Jack Rower, Marketing Specialist, Order Formulation and Enforcement Branch, USDA/AMS/Dairy Programs, STOP 0231-Room 2971, 1400 Independence Avenue, Washington, DC 20250-0231, (202) 720-2357, e-mail address jack.rower@usda.gov.

Persons requiring a sign language interpreter or other special accommodations should contact Gary Jablonski at (425) 487-6009 or gjablonski@fmmaseattle.com before the hearing begins.

SUPPLEMENTARY INFORMATION: Prior documents in this proceeding:

Notice of Hearing: Issued July 31, 2003; published August 6, 2003 (68 FR 46505).

Correction to Notice of Hearing: Issued August 20, 2003; published August 26, 2003 (68 FR 51202).

Notice is hereby given that the hearing which was adjourned in Tempe, Arizona, on September 25, 2003, by the Administrative Law Judge designated to hold said hearing and preside thereof, will reconvene in session at 8:30 a.m., November 17, 2003, at the Doubletree Hotel, Seattle Airport, 18740 Pacific Highway S., Seattle, Washington 98188. At the reconvened hearing, additional testimony will be received on proposed amendments 1 through 5, listed in the initial hearing notice (68 FR 46505) as corrected (68 FR 51202) to the tentative marketing agreements and to the orders regulating the handling of milk in the Arizona-Las Vegas and Pacific Northwest marketing areas.

List of Subjects in 7 CFR Parts 1124 and 1131

Milk marketing orders.

Authority: 7 U.S.C. 601-674.

Dated: October 27, 2003.
A.J. Yates,
Administrator, Agricultural Marketing Service.

[FR Doc. 03-27413 Filed 10-30-03; 8:45 am]

BILLING CODE 3410-02-P